DEPARTMENT OF EDUCATION

[Docket No.: ED-2023-SCC-0063]

Agency Information Collection Activities; Comment Request; Case Service Report (RSA-911)

AGENCY: Office of Special Education and Rehabilitative Services (OSERS), Department of Education (ED).

ACTION: Notice.

SUMMARY: In accordance with the Paperwork Reduction Act (PRA) of 1995, the Department is proposing a revision of a currently approved information collection request (ICR).

DATES: Interested persons are invited to submit comments on or before June 20, 2023.

ADDRESSES: To access and review all the documents related to the information collection listed in this notice, please use http://www.regulations.gov by searching the Docket ID number ED-2023-SCC-0063. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Christopher Pope, (202) 245-7375.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Case Service Report (RSA-911).

OMB Control Number: 1820-0508.

Type of Review: Revision of a currently approved ICR.

Respondents/Affected Public: State, Local, and Tribal Governments.

Total Estimated Number of Annual Responses: 312.

Total Estimated Number of Annual Burden Hours: 12,236,731.

Abstract: The Case Service Report (RSA-911) is used to collect individual level data on State Vocational Rehabilitation (VR) program participants on a quarterly basis. The data collected in this report are mandated by section 101(a)(10) and 607 of the Rehabilitation Act of 1973 (Act) and section 116(d) of the Workforce Innovation and Opportunity Act. In addition, the Rehabilitation Services Administration (RSA) uses data reported through this collection to support its other responsibilities under the Act. Section 14(a) of the Act calls for the evaluation of programs authorized under the Act, as well as an assessment of the programs' effectiveness in relation to cost. Many of these evaluations use RSA-911 data. RSA also uses data captured through the RSA-911 during the conduct of both the annual review and periodic on-site monitoring of VR agencies required by section 107 of the Act to examine the effectiveness of program performance. Other important management activities, such as the provision of technical assistance, program planning, and budget preparation and development, are greatly enhanced through the use of RSA-911 data. In addition, RSA uses RSA-911 data in the exchange of data under a data sharing agreement with the Social Security Administration and the U.S. Department of Health and Human Services as required by section 131 of the Act. Finally, the RSA-911 is considered to be one of the most robust databases in describing the demographics of the disabled population in the country and as such is used widely in researchers' disability-related analyses and reports.

The current RSA-911 expires on 05/31/2024, which occurs during Program Year 2023 (07/01/2023-06/30/2024). Because RSA must collect the same performance data for the entirety of a Program Year, RSA must begin Program Year 2024 with approval of this proposed revision in place. Thus, RSA is proposing to extend with revisions the RSA-911 for three years. If this revision is approved, VR agencies will collect and report data under this collection for Program Years 2024 through 2026. (07/01/2024-06/30/2027).

Dated: April 14, 2023.
Juliana Pearson,
PRA Coordinator, Strategic Collections and Clearance Governance and Strategy Division, Office of Chief Data Officer, Office of Planning, Evaluation and Policy Development.

[FR Doc. 2023-08305 Filed 4-19-23; 8:45 am]

BILLING CODE 4000-01-P